DEPARTMENT OF TRANSPORTATION

Office of the Secretary

Notice of Applications for Certificates of Public Convenience and Necessity and Foreign Air Carrier Permits Filed Under Subpart B (Formerly Subpart Q) During the Week Ending February 26, 2011

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2002-11481.

Date Filed: February 22, 2011.

Due Date for Answers, Conforming Applications, or Motion to Modify Scope: March 15, 2011.

Description

Application of Edelweiss Air AG requesting an amendment to its foreign air carrier permit in order to conduct scheduled and charter foreign air transportation of persons, property, and mail under the U.S.-Switzerland Air Transport Agreement (“Open Skies”) signed and effective June 21, 2010.

Docket Number: DOT-OST-2011-0032.

Date Filed: February 22, 2011.

Due Date for Answers, Conforming Applications, or Motion to Modify Scope: March 15, 2011.

Description

Application of Twin Cities Air Service, LLC requesting authority to operate scheduled passenger service as a commuter air carrier.

Renee V. Wright,
Program Manager, Docket Operations, Federal Register Liaison.

[FR Doc. 2011-5593 Filed 3-10-11; 8:45 am]

BILLING CODE 4910-9X-P